NATIONAL SCIENCE FOUNDATION

Notice of Permits Issued Under the Antarctic Conservation Act of 1978

AGENCY: National Science Foundation.

ACTION: Notice of permits issued under the Antarctic Conservation Act of 1978, Public Law 95-541.

SUMMARY: The National Science Foundation (NSF) is required to publish notice of permits issued under the Antarctic Conservation Act of 1978. This is the required notice.

FOR FURTHER INFORMATION CONTACT: Nadene G. Kennedy, Permit Office, Office of Polar Programs, Rm. 755, National Science Foundation, 4201 Wilson Boulevard, Arlington, VA 22230.

SUPPLEMENTARY INFORMATION: On April 11th and April 13, 2000, the National Science Foundation published notices in the Federal Register of permit applications received. Permits were issued on May 15, 2000 to the following applicant:

Anne A. Sturz: Permit No. 2001-006

Rudolf S. Scheltema: Permit No. 2001-007

Nadene G. Kennedy,
Permit Officer.

[FR Doc. 00-12934 Filed 5-22-00; 8:45 am]

BILLING CODE 7555-01-M